ENVIRONMENTAL PROTECTION AGENCY

[FRL-9952-40-OA]

Notification of a Closed Teleconference of the Chartered Science Advisory Board

AGENCY: Environmental Protection Agency (EPA).

ACTION: Notice.

SUMMARY: The Environmental Protection Agency's (EPA), Science Advisory Board (SAB) Staff Office is announcing a teleconference of the Chartered SAB to conduct a review of a draft report of recommendations regarding the agency's 2016 Scientific and Technological Achievement Awards (STAA). The Chartered SAB teleconference will be closed to the public.

DATES: The Chartered SAB teleconference date is Thursday, October 11, 2016, from 1:00 p.m. to 2:30 p.m. (Eastern Time).

ADDRESSES: The Chartered SAB closed teleconference will take place via telephone only. General information about the SAB may be found on the SAB Web site at http://www.epa.gov/sab.

FOR FURTHER INFORMATION CONTACT: Members of the public who wish to obtain further information regarding this announcement may contact Mr. Thomas Carpenter, Designated Federal Officer, by telephone: (202) 564-4885 or email at carpenter.thomas@epa.gov.

SUPPLEMENTARY INFORMATION: Pursuant to section 10(d) of the Federal Advisory Committee Act (FACA), 5 U.S.C. App. 2, and section (c)(6) of the Government in the Sunshine Act, 5 U.S.C. 552b(c)(6), the EPA has determined that the chartered SAB quality review teleconference will be closed to the public. The purpose of the teleconference is for the chartered SAB to conduct a review of a draft SAB advisory report of recommendations regarding the agency's 2016 STAA. The Chartered SAB teleconference will be closed to the public.

Quality review is a key function of the chartered SAB. Draft reports prepared by SAB committees, panels, or work groups must be reviewed and approved by the chartered SAB before transmittal to the EPA Administrator. The chartered SAB makes a determination in a meeting consistent with FACA about all draft reports and determines whether the report is ready to be transmitted to the EPA Administrator.

At the teleconference, the chartered SAB will conduct a review of draft report developed by an SAB committee charged with developing recommendations regarding the agency's 2016 STAA. (for more information, see http://yosemite.epa.gov/sab/sabproduct.nsf/fedrgstr_activites/STAA-2016-2018?OpenDocument.

The STAA awards are established to honor and recognize EPA employees who have made outstanding contributions in the advancement of science and technology through their research and development activities, as exhibited in publication of their results in peer reviewed journals. I have determined that the Chartered SAB quality review teleconference will be closed to the public because it is concerned with recommending employees deserving of awards. In making these draft recommendations, the EPA requires full and frank advice from the SAB. This advice will involve professional judgments on the relative merits of various employees and their respective work. Such personnel matters involve the discussion of information that is of a personal nature, the disclosure of which would be a clearly unwarranted invasion of personal privacy and, therefore, is protected from disclosure by section (c)(6) of the Government in the Sunshine Act, 5 U.S.C. 552b(c)(6). Minutes of the Chartered SAB teleconference will be certified by the chair and retained in the public record.

Dated: September 7, 2016.
Gina McCarthy,
Administrator.

[FR Doc. 2016-22231 Filed 9-14-16; 8:45 am]

BILLING CODE 6560-50-P